DEPARTMENT OF ENERGY

Office of Energy Efficiency and Renewable Energy

DOE Materials-Based Hydrogen Storage Summit: Defining Pathways for Onboard Automotive Applications

AGENCY: Office of Energy Efficiency and Renewable Energy, Department of Energy (DOE).

ACTION: Notice of public workshop.

SUMMARY: This notice announces a public workshop for interested parties to learn about recent results from DOE's materials-based hydrogen storage system modeling efforts. In addition, DOE intends to gather input from workshop participants to identify hydrogen storage material development pathways and potential future areas of research. This input will be used to help guide future activities for the DOE Hydrogen Storage Program.

DATES: The workshop will be held Tuesday, January 27, 2015 from 8:30 a.m. to 5 p.m. and Wednesday, January 28, 2015 from 8:30 a.m. to 2:30 p.m. Registration and a $75 fee is required; Web site address to registration is provided below.

ADDRESSES: National Renewable Energy Laboratory, Research Support Facility, 15013 Denver West Parkway Golden, CO 80401, Attn: Matt Thornton (matthew.thornton@nrel.gov).

FOR FURTHER INFORMATION CONTACT: Questions may be directed to—Ned Stetson, Ph.D., DOE Hydrogen Storage Program Manager at 202-586-9995 or by email at ned.stetson@ee.doe.gov.

SUPPLEMENTARY INFORMATION: The U.S. Department of Energy's (DOE's) National Renewable Energy Laboratory (NREL) in conjunction with the DOE Fuel Cell Technologies Office's Hydrogen Storage Program (http://energy.gov/sites/prod/files/2014/11/f19/fcto_myrdd_storage.pdf), will host a public workshop titled: DOE Materials-based Hydrogen Storage Summit: Defining Pathways for Onboard Automotive Applications.

Recent analysis efforts, including results from the Hydrogen Storage Engineering Center of Excellence, identified the material-level characteristics required to meet the DOE system-level performance targets. These results show that although the DOE has invested extensively in hydrogen storage materials development, no material has been identified that, when incorporated into a complete system, can meet the challenging DOE performance targets.

Fuel cell electric vehicles are being introduced commercially today. Therefore, if materials-based storage technologies are to be employed on consumer vehicles in the future, it is imperative that the development of hydrogen storage materials be accelerated and efforts focused on pathways with the highest probability of success. Through an understanding of the material characteristics needed to meet system performance targets, it is expected that material development strategies can be optimized to meet the DOE hydrogen storage targets.

In summary, this workshop will serve two main objectives:

(1) Disseminate recent results from DOE Hydrogen Storage system modeling efforts and discuss their implications on hydrogen storage materials development efforts.

(2) Gather input from meeting participants to identify hydrogen storage materials development pathways and potential future areas of research which will lead to the highest probability of success. This input will be used to help guide future activities for the DOE Hydrogen Storage Program.

Please visit: http://www.nrel.gov/hydrogen/materials-based-storage-summit.html for more information on the workshop including the current agenda.

To register, please visit: http://www.nrel.gov/ap/h2-storage-summit/. Please note that registration is required for all meeting attendees. Cash or check payment of $75 will be collected on the morning of the first day of the meeting.

Issued in Washington, DC on November 24, 2014.
Sunita Satyapal,
Director, DOE Fuel Cell Technologies Office.

[FR Doc. 2014-29076 Filed 12-10-14; 8:45 am]

BILLING CODE P